SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: August 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f):

1. RENEWAL—Chesapeake Appalachia, L.L.C.; Pad ID: Deer Park; ABR-201907003.R1; Windham Township, Wyoming County, Pa.; Consumptive Use of Up to 7.5000 mgd; Approval Date: August 8, 2024.

2. RENEWAL—Coterra Energy Inc.; Pad ID: CraneJ P1; ABR-201907002.R1; Lathrop Township, Susquehanna County, Pa.; Consumptive Use of Up to 5.0000 mgd; Approval Date: August 8, 2024.

3. RENEWAL—Blackhill Energy LLC; Pad ID: Gerbino #1; ABR-20090710.R3; Ridgebury Township, Bradford County, Pa.; Consumptive Use of Up to 7.5000 mgd; Approval Date: August 17, 2024.

4. RENEWAL—Chesapeake Appalachia, L.L.C.; Pad ID: White SUS; ABR-201407008.R2; Auburn Township, Susquehanna County, Pa.; Consumptive Use of Up to 7.5000 mgd; Approval Date: August 17, 2024.

5. RENEWAL—EQT ARO LLC; Pad ID: COP Tract 653 Pad A; ABR-20090405.R3; Beech Creek Township, Clinton County, Pa.; Consumptive Use of Up to 4.0000 mgd; Approval Date: August 17, 2024.

6. RENEWAL—EQT ARO LLC; Pad ID: COP Tract 653 Pad B; ABR-20090414.R3; Beech Creek Township, Clinton County, Pa.; Consumptive Use of Up to 4.0000 mgd; Approval Date: August 17, 2024.

7. RENEWAL—Chesapeake Appalachia, L.L.C.; Pad ID: Kent; ABR-20090726.R3; Towanda Township, Bradford County, Pa.; Consumptive Use of Up to 7.5000 mgd; Approval Date: August 19, 2024.

8. RENEWAL—Chesapeake Appalachia, L.L.C.; Pad ID: McDonough; ABR-201407009.R2; Meshoppen Township, Wyoming County, Pa.; Consumptive Use of Up to 7.5000 mgd; Approval Date: August 19, 2024.

9. RENEWAL—Chesapeake Appalachia, L.L.C.; Pad ID: SGL-12 A Drilling Pad; ABR-201407007.R2; Overton Township, Bradford County, Pa.; Consumptive Use of Up to 7.5000 mgd; Approval Date: August 19, 2024.

10. Pennsylvania General Energy Company, L.L.C.; Pad ID: COP Tract 726 Pad A; ABR-202408001; Plunketts Creek Township, Lycoming County, Pa.; Consumptive Use of Up to 4.0000 mgd; Approval Date: August 25, 2024.

11. RENEWAL—Blackhill Energy LLC; Pad ID: Warren #1; ABR-20090711.R3; Ridgebury Township, Bradford County, Pa.; Consumptive Use of Up to 7.5000 mgd; Approval Date: August 25, 2024.

12. RENEWAL—EQT ARO LLC; Pad ID: Larrys Creek F&G Pad A; ABR-20090411.R3; Cummings Township, Lycoming County, Pa.; Consumptive Use of Up to 4.0000 mgd; Approval Date: August 25, 2024.

13. RENEWAL—EQT ARO LLC; Pad ID: Larrys Creek F&G Pad B; ABR-20090416.R3; Cummings Township, Lycoming County, Pa.; Consumptive Use of Up to 4.0000 mgd; Approval Date: August 25, 2024.

14. RENEWAL—Seneca Resources Company, LLC; Pad ID: PHC 7H; ABR-20090722.1.R3; Lawrence Township, Clearfield County, Pa.; Consumptive Use of Up to 4.0000 mgd; Approval Date: August 25, 2024.

15. RENEWAL—Chesapeake Appalachia, L.L.C.; Pad ID: Hershberger; ABR-20090739.R3; Terry Township, Bradford County, Pa.; Consumptive Use of Up to 7.5000 mgd; Approval Date: August 26, 2024.

16. RENEWAL—Inflection Energy (PA) LLC; Pad ID: Hamilton Well Site; ABR-201403010.R2; Upper Fairfield Township, Lycoming County, Pa.; Consumptive Use of Up to 4.0000 mgd; Approval Date: August 26, 2024.

17. RENEWAL—Seneca Resources Company, LLC; Pad ID: J. Pino Pad G; ABR-20090717.R3; Covington Township, Tioga County, Pa.; Consumptive Use of Up to 4.0000 mgd; Approval Date: August 29, 2024.

18. RENEWAL—Seneca Resources Company, LLC; Pad ID: PHC 8H; ABR-20090723.1.R3; Lawrence Township, Clearfield County, Pa.; Consumptive Use of Up to 4.0000 mgd; Approval Date: August 29, 2024.

19. RENEWAL—Chesapeake Appalachia, L.L.C.; Pad ID: Claudia; ABR-20090807.R3; Terry Township, Bradford County, Pa.; Consumptive Use of Up to 7.5000 mgd; Approval Date: August 30, 2024.

20. RENEWAL—Chesapeake Appalachia, L.L.C.; Pad ID: Eileen; ABR-20090806.R3; Smithfield Township, Bradford County, Pa.; Consumptive Use of Up to 7.5000 mgd; Approval Date: August 30, 2024.

21. RENEWAL—Chesapeake Appalachia, L.L.C.; Pad ID: Fitzsimmons; ABR-20090809.R3; Albany Township, Bradford County, Pa.; Consumptive Use of Up to 7.5000 mgd; Approval Date: August 30, 2024.

22. RENEWAL—Chesapeake Appalachia, L.L.C.; Pad ID: Hunter; ABR-201408001.R2; Meshoppen Township, Wyoming County, Pa.; Consumptive Use of Up to 7.5000 mgd; Approval Date: August 30, 2024.

23. RENEWAL—Seneca Resources Company, LLC; Pad ID: CRV Pad C09-G; ABR-201408002.R2; Shippen Township, Cameron County, Pa.; Consumptive Use of Up to 4.0000 mgd; Approval Date: August 30, 2024.

24. RENEWAL—Seneca Resources Company, LLC; Pad ID: T. Wivell Horizontal Pad; ABR-20090814.R3; Covington Township, Tioga County, Pa.; Consumptive Use of Up to 4.0000 mgd; Approval Date: August 30, 2024.

Authority: Public Law 91-575, 84 Stat. 1509 et seq., 18 CFR parts 806 and 808.

Dated: September 6, 2024.
Jason E. Oyler,
General Counsel and Secretary to the Commission.

[FR Doc. 2024-20578 Filed 9-10-24; 8:45 am]

BILLING CODE 7040-01-P